DEPARTMENT OF EDUCATION

[Docket No.: ED-2025-SCC-0349]

Agency Information Collection Activities; Submission to the Office of Management and Budget for Review and Approval; Comment Request; 84.421F Disability Innovation Fund (DIF) Evidence Building Support (EBS)

AGENCY: Office of Special Education and Rehabilitative Services (OSERS), Department of Education (ED).

ACTION: Notice.

SUMMARY: In accordance with the Paperwork Reduction Act (PRA) of 1995, the Department is proposing an extension without change of a new information collection request (ICR).

DATES: Interested persons are invited to submit comments on or before February 13, 2026.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Diandrea Bailey, (202) 987-0126.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 84.421F Disability Innovation Fund (DIF) Evidence Building Support (EBS).

OMB Control Number: 1820-NEW.

Type of Review: New ICR.

Respondents/Affected Public: Individuals or Households.

Total Estimated Number of Annual Responses: 24.

Total Estimated Number of Annual Burden Hours: 36.

Abstract: The U.S. Department of Education's Rehabilitation Services Administration (RSA) requests clearance for a new data collection activity to support the 84.421F Disability Innovation Fund (DIF) Evidence-Building Support (EBS) project. The purpose of the DIF, as provided by the Consolidated Appropriations Act, 2023 (Pub. L. 117-328), is to support innovative activities aimed at increasing competitive integrated employment (CIE) as defined in section 7 of the Rehabilitation Act of 1973 (Rehabilitation Act) (29 U.S.C. 705(5)) for children, youth, and other individuals with disabilities. RSA is investing a total of $251,934,086 in grant funding to the 27 State Vocational Rehabilitation (VR), other State agencies, Public, Private and Nonprofit Entities, including Indian Tribes and Institutions of Higher Education through the 84.421F DIF program.

This request covers the following single primary data collection for the EBS:

• Annual interviews with 84.421F DIF project directors

In September 2024, RSA awarded five-year cooperative agreements to 27 State VR, other State agencies, Public, Private and Nonprofit Entities, including Indian Tribes and Institutions of Higher Education to implement model demonstration projects. The projects vary across the 27 grants but they share the same purpose, which is to develop, implement, refine, assess, and disseminate innovative or substantially improved strategies or programs geared toward increasing CIE for individuals with disabilities. RSA is conducting evaluation and technical assistance (TA) activities and will report on implementation and evaluation progress across all grantees in Annual Evidence Reports. This report will also document findings that RSA can use to coordinate ongoing activities and communicate with outside agencies and congressional staff. To supplement the existing data sources, RSA will conduct one annual semi-structured interviews with the individual grantee project directors in grant Years 2, 3, 4 and 5 (Calendar Year (CY) 2025-CY 2029). These interviews will provide valuable qualitative insights into overall project goals, implementation progress, and the barriers and facilitators encountered—information that is not captured through administrative data reporting alone. This richer understanding will help fill critical gaps and will support the development of the Annual Evidence Report, inform evaluations, coordination, and evaluation technical assistance efforts.

Ross Santy,
Chief Data Officer, Office of Planning, Evaluation and Policy Development.

[FR Doc. 2026-00565 Filed 1-13-26; 8:45 am]

BILLING CODE 4000-01-P